COMMITTEE FOR THE IMPLEMENTATION OF TEXTILE AGREEMENTS

Determination under the Textile and Apparel Commercial Availability Provision of the Dominican Republic-Central America-United States Free Trade Agreement (CAFTA-DR Agreement)

August 11, 2009.

AGENCY: The Committee for the Implementation of Textile Agreements.

ACTION: Determination to add a product in unrestricted quantities to Annex 3.25 of the CAFTA-DR Agreement.

EFFECTIVE DATE: August 14, 2009.

SUMMARY: The Committee for the Implementation of Textile Agreements (“CITA”) has determined that certain polyester/rayon/wool fabric, as specified below, is not available in commercial quantities in a timely manner in the CAFTA-DR countries. The product will be added to the list in Annex 3.25 of the CAFTA-DR Agreement in unrestricted quantities.

FOR FURTHER INFORMATION CONTACT: Maria Dybczak, Office of Textiles and Apparel, U.S. Department of Commerce, (202) 482 3651.

FOR FURTHER INFORMATION ON-LINE: http://web.ita.doc.gov/tacgi/CaftaReqTrack.nsf. Reference number: 126.2009.07.06.Fabric.SharrettsPaley forFishman&Tobin

SUPPLEMENTARYINFORMATION:

Authority: The CAFTA-DR Agreement; Section 203(o)(4) of the Dominican Republic-Central America-United States Free Trade Agreement Implementation Act (CAFTA-DR Implementation Act), Pub. Law 109-53; the Statement of Administrative Action (SAA), accompanying the CAFTA-DR Implementation Act; and Presidential Proclamations 7987 (February 28, 2006) and 7996 (March 31, 2006).

BACKGROUND:

The CAFTA-DR Agreement provides a list in Annex 3.25 for fabrics, yarns, and fibers that the Parties to the CAFTA-DR Agreement have determined are not available in commercial quantities in a timely manner in the territory of any Party. The CAFTA-DR Agreement provides that this list may be modified pursuant to Article 3.25(4)-(5), when the President of the United States determines that a fabric, yarn, or fiber is not available in commercial quantities in a timely manner in the territory of any Party. See Annex 3.25 of the CAFTA-DR Agreement; see also section 203(o)(4)(C) of the CAFTA-DR Implementation Act.

The CAFTA-DR Implementation Act requires the President to establish procedures governing the submission of a request and providing opportunity for interested entities to submit comments and supporting evidence before a commercial availability determination is made. In Presidential Proclamations 7987 and 7996, the President delegated to CITA the authority under section 203(o)(4) of CAFTA-DR Implementation Act for modifying the Annex 3.25 list. On September 15, 2008, CITA published modified procedures it would follow in considering requests to modify the Annex 3.25 list of products determined to be not commercially available in the territory of any Party to CAFTA-DR (Modifications to Procedures for Considering Requests Under the Commercial Availability Provision of the Dominican Republic-Central America-United States Free Trade Agreement, 73 FR 53200) (“procedures”).

On July 6, 2009, the Chairman of CITA received a Request for a Commercial Availability Determination (“Request”) from Sharretts, Paley, Carter & Blauvelt, P.C. on behalf of Fishman & Tobin for certain polyester/rayon/wool fabrics. On July 8, 2009, in accordance with CITA's procedures, CITA notified interested parties of the Request, which was posted on the dedicated website for CAFTA-DR Commercial Availability proceedings. In its notification, CITA advised that any Response with an Offer to Supply (“Response”) must be submitted by July 20, 2009, and any Rebuttal Comments to a Response (“Rebuttal”) must be submitted by July 24, 2009. No interested entity submitted a Response to the Request advising CITA of its objection to the Request and its ability to supply the subject product.

In accordance with section 203(o)(4)(C) of the CAFTA-DR Implementation Act, and Section 8(c)(2) of CITA's procedures, as no interested entity submitted a Response objecting to the Request and demonstrating its ability to supply the subject product, CITA has determined to add the specified fabric to the list in Annex 3.25 of the CAFTA-DR Agreement.

The subject product has been added to the list in Annex 3.25 of the CAFTA-DR Agreement in unrestricted quantities. A revised list has been posted on the dedicated website for CAFTA-DR Commercial Availability proceedings.

Specifications: Certain Polyester/Rayon/Wool Fabric
HTSUS: 5515.11.00; 5515.19.00; 5516.92.00; 5516.93.00
Fiber Content: 30-65% polyester/ 25-65% rayon; 1-20% wool
Configuration:
Fabric #1 -
Warp - Spun yarn, either plied or single of various sizes, of intimately blended rayon and polyester staple fibers.
Fill - Spun yarn, either plied or single of various sizes, of intimately blended polyester and wool staple fibers.
Fabric #2 -
Warp - Spun yarn, either plied or single of various sizes, of intimately blended rayon and polyester staple fibers.
Fill - Spun yarn, either plied or single of various sizes, of intimately blended polyester, rayon and wool staple fibers.
Fabric #3 -
Warp - Spun yarn, either plied or single of various sizes, of intimately blended polyester, rayon and wool staple fibers.
Fill - Spun yarn, either plied or single of various sizes, of intimately blended polyester, rayon and wool staple fibers.
NOTE: “Intimately blended” refers to situations where the fibers are wound together to form that yarn.
Construction: Various
Weight:
English - 5 to 7.4 oz/sq. yd.
Metric - 170 to 250 gm/sq. meter
Width:
English - 56 to 64 inches
Metric - 142 to163 cm
Weave: Various, including plain and twill
Coloration: Piece dyed or of yarns of different colors

Janet E. Heinzen,
Acting Chairman, Committee for the Implementation of Textile Agreements.

[FR Doc. E9-19558 Filed 8-13-09; 8:45 am]

BILLING CODE 3510-DS